DEPARTMENT OF TRANSPORTATION

Federal Aviation Administration

[Docket No. FAA-2025-1125]

Agency Information Collection Activities: Requests for Comments; Clearance of Renewed Approval of Information Collection: Dealer's Aircraft Registration Application

AGENCY: Federal Aviation Administration (FAA), DOT.

ACTION: Notice and request for comments.

SUMMARY: In accordance with the Paperwork Reduction Act of 1995, FAA invites the public to make comments about our intention to request the Office of Management and Budget (OMB) approval to renew an information collection. The Federal Register Notice with a 60-day comment period soliciting comments on the following collection of information was published on June 24, 2025. The collection involves submission of an AC Form 8050-5, Dealer's Aircraft Registration Certificate Application, by companies or individuals to obtain a Dealer's Aircraft Registration Certificate, which allows operation of an aircraft in lieu of obtaining a permanent aircraft registration certificate. The information collection is necessary for a dealer to operate an aircraft without a permanent aircraft registration certificate.

DATES: Written comments should be submitted by December 19, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Shantel Young by email at: shantel.young@faa.gov; phone: 405-954-7077.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0024.

Title: Dealer's Aircraft Registration Certificate Application.

Form Numbers: AC Form 8050-5.

Type of Review: Renewal.

Background: The Federal Register Notice with a 60-day comment period soliciting comments on the following collection of information was published on June 24, 2025 (90 FR 26899). Federal Aviation Regulation 14 CFR part 47, subpart C, outlines the requirements for dealers to obtain a dealer's aircraft registration certificate to operate aircraft in lieu of obtaining a permanent aircraft registration certificate. Any individual or company engaged in manufacturing, distributing, or selling aircraft who want to operate aircraft without a permanent aircraft registration certificate may apply. Applicants complete the AC Form 8050-5, Dealer's Aircraft Registration Certificate Application. A dealer's certificate is valid for one year from the issuance date. A dealer must re-apply annually to maintain their certificate.

Respondents: 3,453 applicants in FY2024.

Frequency: Annually to maintain a certificate.

Estimated Average Burden per Response: 30 minutes.

Estimated Total Annual Burden: 1,727 hours.

Issued in Oklahoma City, OK, on November 14, 2025.
Shantel Young,
Management and Program Analyst, Civil Aviation Registry, Aircraft Registration Branch, AFB-710.

[FR Doc. 2025-20235 Filed 11-18-25; 8:45 am]

BILLING CODE 4910-13-P